DEPARTMENT OF THE INTERIOR

Bureau of Indian Affairs

Indian Gaming

AGENCY: Bureau of Indian Affairs, Interior.

ACTION: Notice of Tribal-State Class III Gaming Compact taking effect.

SUMMARY: This publishes notice of the Tribal-State Compact between the State of California and the Habematolel Pomo of Upper Lake taking effect.

DATES: Effective Date: August 10, 2011.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. § 2710, the Secretary of the Interior shall publish in the Federal Register notice of approved Tribal-State compacts for the purpose of engaging in Class III gaming activities on Indian lands. The Compact allows for one gaming facility and authorizes up to 750 gaming devices, any banking or percentage card games, and any devices or games authorized under state law to the state lottery. The Compact, also, authorizes limited annual payments to the State for statewide exclusivity. Finally, the term of the compact is until December 31, 2031. This Compact is considered to have been approved but only to the extent that the Compact is consistent with the provisions of the Indian Gaming Regulatory Act.

Dated: August 3, 2011.
Jodi Gillette,
Deputy Assistant Secretary—Indian Affairs.

[FR Doc. 2011-20316 Filed 8-9-11; 8:45 am]

BILLING CODE 4310-4N-P